DEPARTMENT OF COMMERCE

National Oceanic and Atmospheric Administration

RIN 0648-XD66

North Pacific Fishery Management Council; Public Meeting

AGENCY: National Marine Fisheries Service (NMFS), National Oceanic and Atmospheric Administration (NOAA), Commerce.

ACTION: Notice of a public meeting.

SUMMARY: The North Pacific Fishery Management Council's (Council) Non-Target Species Committee will meet at the offices of At-Sea Processors Association.

DATES: The meeting will be held on November 12, 2007, from 2 p.m. to 5 p.m.

ADDRESSES: The meeting will be held at the At-Sea Processors Association, 4039 21st Avenue West, Suite 400, Seattle, WA. Please call (206) 285-5139 for teleconference number.

Council address: North Pacific Fishery Management Council, 605 W. 4th Avenue, Suite 306, Anchorage, AK 99501-2252.

FOR FURTHER INFORMATION CONTACT: Jane DiCosimo, Council staff; telephone: (907) 271-2809.

SUPPLEMENTARY INFORMATION: The committee will review and provide comment to the Council on a proposed economic analysis to revise management of the “other species” groundfish assemblage into separate group specifications for sharks, skates, sculpins, squids, and octopuses, and possibly grenadiers. The proposed actions would require amending the groundfish fishery management plans for the Bering Sea / Aleutian Islands and Gulf of Alaska.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: October 25, 2007.
Tracey L. Thompson,
Acting Director, Office of Sustainable Fisheries, National Marine Fisheries Service.

[FR Doc. E7-21325 Filed 10-29-07; 8:45 am]

BILLING CODE 3510-22-S